DEPARTMENT OF COMMERCE

Foreign-Trade Zones Board

[B-02-2019]

Foreign-Trade Zone (FTZ) 106—Oklahoma City, Oklahoma; Authorization of Production Activity; Xerox Corporation; (Polyester Latex for Printer/Copier Toner); Oklahoma City, Oklahoma

On December 18, 2019, the Port Authority of Greater Oklahoma City, grantee of FTZ 106, submitted a notification of proposed production activity to the FTZ Board on behalf of Xerox Corporation, within Subzone 106D in Oklahoma City, Oklahoma.

The notification was processed in accordance with the regulations of the FTZ Board (15 CFR part 400), including notice in the Federal Register inviting public comment (84 FR 2156-2157, February 6, 2019). On May 28, 2019, the applicant was notified of the FTZ Board's decision that no further review of the activity is warranted at this time. The production activity described in the notification was authorized, subject to the FTZ Act and the FTZ Board's regulations, including Section 400.14.

Dated: May 28, 2019.
Andrew McGilvray,
Executive Secretary.

[FR Doc. 2019-11395 Filed 5-30-19; 8:45 am]

BILLING CODE 3510-DS-P